FEDERAL MARITIME COMMISSION

Privacy Act of 1974; System of Records

AGENCY: Federal Maritime Commission.

ACTION: Rescindment of a system of records notice.

SUMMARY: FMC-40 The Service Contract Filing System (SERVCON) is the Federal Maritime Commission's (Commission's) automated filing system for service contracts. Shippers or vessel-operating common carriers (VOCCs) are required to file service contracts with the Commission on form FMC-83. This system is not being discontinued, however, SERVCON does not meet the requirements of a Privacy Act System of Records as it does not maintain “records” as defined under the Privacy Act (PA), that are “about” an individual.

DATES: This rescindment is effective upon publication.

ADDRESSES: Submit written comments to Rachel E. Dickon, Secretary, Federal Maritime Commission, 800 N Capitol Street NW, Washington, DC 20573-0001; or, email comments to: Secretary@fmc.gov (email comments as an attachment in MS Word or PDF). Include in the Subject Line: Comments on Systems of Records Notice FMC-40.

FOR FURTHER INFORMATION CONTACT: Office of Service Contracts & Tariffs (SCT), Gary Kardian, 800 N Capitol Street NW, Suite 940, Washington, DC 20573-0001, (202) 523-5796, tradeanalysis@fmc.gov.

SUPPLEMENTARY INFORMATION: The FMC SERVCON system does not meet the requirements of a Privacy Act System of Records because it does not maintain “records” as defined under the Privacy Act (PA), that are “about” an individual. The PA states “no agency shall disclose any record which is contained in a system of records . . .” 5 U.S.C. 552a(b). The term “record” as used in the PA, means “any item, collection, or grouping of information about an individual that is maintained by an agency, including, but not limited to, his education, financial transactions, medical history, and criminal or employment history and that contains his name, or the identifying number, symbol, or other identifying particular assigned to the individual, such as a finger or voice print or a photograph;” 5 U.S.C.552a(4). (Emphasis added).

The purpose of the FMC SERVCON system is to “record, review, and manage contractual arrangements by organizations performing services as registered VOCCs and non-vessel-operating common carriers in order to ensure legal operating requirements are met.” FMC SERVCON Privacy Impact Statement (PIA), available at: https://www.fmc.gov/wp-content/uploads/2018/10/SERVCONPIA-2013.pdf. There are no reports in SERVCON produced on individuals.

SERVCON, however does have information protected by statute and possibly business confidential information. All SERVCON system protections will continue to be maintained in accordance with the security and privacy protections in place for the FMC's General Support System and the FMC SQL Database, within which SERVCON is operated.

SYSTEM NAME AND NUMBER:

FMC-40 SERVCON

HISTORY:

78 FR 55699

Rachel Dickon,
Secretary.

[FR Doc. 2020-24923 Filed 11-9-20; 8:45 am]

BILLING CODE 6730-02-P